DEPARTMENT OF ENERGY

Federal Energy Regulatory Commission

[Docket No. CP08-448-000]

Trunkline Gas Company, LLC; Notice of Request Under Blanket Authorization

August 12, 2008.

Take notice that on July 31, 2008, Trunkline Gas Company, LLC (Trunkline), 5444 Westheimer Road, Houston, Texas 77056-5306, filed in Docket No. CP08-448-000, an application, as supplemented on August 11, 2008, pursuant to sections 157.205 and 157.216(b) of the Commission's Regulations under the Natural Gas Act (NGA) as amended, to abandon by sale approximately 29 miles of 10-inch diameter pipeline and appurtenant facilities (the Quicksand Lateral facilities) to Enerfin Field Services LLC (Enerfin) in Beauregard Parish, Louisiana, under Trunkline's blanket certificate issued in Docket No. CP83-84-000,¹ all as more fully set forth in the application which is on file with the Commission and open to the public for inspection.

¹ 22 FERC ¶ 62,044 (1983).

Trunkline states that Enerfin would use the Quicksand Lateral facilities as part of its nonjurisdictional gathering system. Trunkline also states that the Quicksand Lateral facilities transported an average of 2MMcf of natural gas per day in 2007. Trunkline further states that it cost approximately $60,000 to upgrade the Quicksand Lateral facilities and approximately $220,000 in additional annual expenses to operate and maintain the facilities (which exceeds the estimated annual revenue). Additionally, Trunkline states that the Quicksand Lateral facilities do not have any long-term viability to Trunkline, and there is no foreseeable commercial development in the area to support retaining the facilities as part of Trunkline's pipeline system. Finally, Trunkline states that it would cost approximately $21,850,000 to replicate the Quicksand Lateral facilities based upon 2008 construction prices, and requests that the purchase price should remain confidential.

Any questions concerning this application may be directed to Stephen T. Veatch, Regulatory Affairs, Trunkline Gas Company, LLC, 5444 Westheimer Road, Houston, Texas 77056-5306, telephone at (713) 989-2024, facsimile at (713) 989-1176, or via e-mail: Stephen.Veatch@sug.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Nathaniel J. Davis, Sr.,
Deputy Secretary.

[FR Doc. E8-19124 Filed 8-18-08; 8:45 am]

BILLING CODE 6717-01-P